DEPARTMENT OF TRANSPORTATION

Federal Transit Administration

Prevention of Alcohol Misuse and Prohibited Drug Use in Transit Operations

AGENCY: Federal Transit Administration (FTA), DOT.

ACTION: Notice of random drug and alcohol testing rates for 2016.

SUMMARY: This notice announces the random testing rates for employers subject to the Federal Transit Administration's (FTA) drug and alcohol rules for 2016.

DATES: Effective Date: January 1, 2016.

FOR FURTHER INFORMATION CONTACT: Iyon Rosario, Drug and Alcohol Program Manager for the Office of Safety and Oversight, 1200 New Jersey Avenue SE., Washington, DC 20590 (telephone: 202-366-2010 or email: Iyon.Rosario@dot.gov).

SUPPLEMENTARY INFORMATION: On January 1, 1995, FTA required large transit employers to begin drug and alcohol testing employees performing safety-sensitive functions and submit annual reports by March 15 of each year beginning in 1996. The annual report includes the number of employees who had a verified positive for the use of prohibited drugs, and the number of employees who tested positive for the misuse of alcohol during the reported year. Small employers commenced their FTA-required testing on January 1, 1996, and began reporting the same information as the large employers beginning March 15, 1997. The testing rules were updated on August 1, 2001, and established a random testing rate for prohibited drugs and the misuse of alcohol.

The rules require that employers conduct random drug tests at a rate equivalent to at least 50 percent of their total number of safety-sensitive employees for prohibited drug use and at least 25 percent for the misuse of alcohol. However, the rules provide that the drug random testing rate may be lowered to 25 percent if the positive rate for the entire transit industry is less than one percent for two preceding consecutive years. Once lowered, the random rates may be raised to 50 percent if the positive rate equals or exceeds one percent for any one year (positive rate means the number of positive results for random drug tests conducted under 49 CFR 655.45 plus the number of refusals of random tests required by 49 CFR 655.49, divided by the total number of random drug tests, plus the number of refusals of random tests required by 49 CFR part 655).

The alcohol provisions provide that the random rate may be lowered to 10 percent if the violation rate for the entire transit industry is less than 0.5 percent for two consecutive years. It will remain at 25 percent if the violation rate is equal to or greater than 0.5 percent but less than one percent, and it will be raised to 50 percent if the violation rate is one percent or greater for any one year (violation rate means the number of covered employees found during random tests administered under 49 CFR 655.45 to have an alcohol concentration of .04 or greater, plus the number of employees who refuse a random test required by 49 CFR 655.49, divided by the total reported number of random alcohol tests plus the total number of refusals of random tests required by 49 CFR part 655).

Pursuant to 49 CFR 655.45(b), the Administrator's decision to increase or decrease the minimum annual percentage rate for random drug and alcohol testing is based, in part, on the reported positive drug and alcohol violation rates for the entire industry. The information used for this determination is drawn from the drug and alcohol Management Information System (MIS) reports required by 49 CFR part 655. In determining the reliability of the data, the Administrator considers the quality and completeness of the reported data, or may obtain additional information or reports from employers, and make appropriate modifications in calculating the industry's verified positive results and violation rates.

The Administrator has determined the random drug testing rate will remain at 25 percent for 2016 due to an industry positive rate lower than 1.0 percent for random drug test data for the two preceding calendar years. The random drug rates for the two preceding years are .87 percent for 2014 and .90 percent for 2015.

The Administrator has also determined the random alcohol testing rate for 2016 will remain at 10 percent because the random alcohol violation rate for the industry was again lower than 0.5 percent for the two preceding consecutive years. The random alcohol rates for the two preceding years are 0.14 percent for 2014 and 0.14 percent for 2015.

Detailed reports on the FTA drug and alcohol testing data collected from transit employers may be obtained from the FTA, Office of Safety and Oversight, 1200 New Jersey Avenue SE., Washington, DC 20590, (202) 366-2010 or at http://transit-safety.fta.dot.gov/publications/Default.aspx.

Issued in Washington, DC, pursuant to authority under 49 CFR 1.91.
Therese W. McMillan,
Acting Administrator.

[FR Doc. 2016-01222 Filed 1-21-16; 8:45 am]

BILLING CODE P